DEPARTMENT OF DEFENSE

Office of the Secretary

Department of Defense Wage Committee (DoDWC); Notice of Federal Advisory Committee Meeting

AGENCY: Under Secretary of Defense for Personnel and Readiness, Department of Defense (DoD).

ACTION: Notice of closed Federal Advisory Committee meeting.

SUMMARY: DoD is publishing this notice to announce that the following Federal Advisory Committee meeting of the DoDWC will take place.

DATES: Tuesday, September 7, 2021 from 10:00 a.m. to 2:00 p.m. and will be closed to the public.

ADDRESSES: The closed meeting will be held by teleconference.

FOR FURTHER INFORMATION CONTACT: Mr. Karl Fendt, (571) 372-1618 (voice), karl.h.fendt.civ@mail.mil (email), 4800 Mark Center Drive, Suite 05G21, Alexandria, Virginia 22350 (mailing address).

SUPPLEMENTARY INFORMATION: Meeting Announcement: Due to circumstances beyond the control of the Department of Defense and the Designated Federal Officer for the DoDWC, the DoDWC was unable to provide public notification required by 41 CFR 102-3.450(a) concerning its September 7, 2021 meeting. Accordingly, the Advisory Committee Management Officer for the Department of Defense, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: The purpose of this meeting is to provide independent advice and recommendations on matters relating to the conduct of wage surveys and the establishment of wage schedules for all appropriated fund and non-appropriated fund areas of blue-collar employees within the DoD.

Agenda

Reviewing survey results and/or survey specifications for the following Nonappropriated Fund areas:

1. Wage Schedule (Full Scale) for the Orleans, Louisiana wage area (AC-006).

2. Wage Schedule (Full Scale) for the Hennepin, Minnesota wage area (AC-015).

3. Wage Schedule (Full Scale) for the Ward, North Dakota wage area (AC-016).

4. Wage Schedule (Full Scale) for the Grand Forks. North Dakota wage area (AC-017).

5. Wage Schedule (Full Scale) for the Davis-Weber-Salt Lake, Utah wage area (AC-018).

6. Wage Schedule (Full Scale) for the McLennan, Texas wage area (AC-022).

7. Wage Schedule (Full Scale) for the Bell, Texas wage area (AC-028).

8. Wage Schedule (Full Scale) for the Curry, New Mexico wage area (AC-030).

9. Wage Schedule (Full Scale) for the Tom Green, Texas wage area (AC-032).

10. Wage Schedule (Full Scale) for the Cobb, Georgia wage area (AC-034).

11. Wage Schedule (Full Scale) for the Richmond, Georgia wage area (AC-035).

12. Wage Schedule (Full Scale) for the Houston, Georgia wage area (AC-036).

13. Wage Schedule (Full Scale) for the Ada-Elmore, Idaho wage area (AC-038).

14. Wage Schedule (Full Scale) for the Cascade, Montana wage area (AC-040).

15. Wage Schedule (Full Scale) for the Spokane, Washington wage area (AC-043).

16. Wage Schedule (Full Scale) for the Pulaski, Arkansas wage area (AC-045).

17. Wage Schedule (Full Scale) for the Montgomery, Alabama wage area (AC-048).

18. Wage Schedule (Full Scale) for the Allegheny, Pennsylvania wage area (AC-066).

19. Wage Schedule (Full Scale) for the Columbus, Georgia wage area (AC-067).

20. Wage Schedule (Full Scale) for the Sedgwick, Kansas wage area (AC-078).

21. Wage Schedule (Full Scale) for the Jefferson, New York wage area (AC-101).

22. Wage Schedule (Full Scale) for the Orange, New York wage area (AC-103).

23. Wage Schedule (Full Scale) for the Macomb, Michigan wage area (AC-162).

24. Wage Schedule (Full Scale) for the Niagara, New York wage area (AC-163).

25. Wage Schedule (Full Scale) for the Montgomery-Greene, Ohio wage area (AC-166).

26. Wage Schedule (Wage Change) for the Arapahoe-Denver, Colorado wage area (AC-084).

27. Wage Schedule (Wage Change) for the El Paso, Colorado wage area (AC-085).

28. Wage Schedule (Wage Change) for the Pennington, South Dakota wage area (AC-086).

29. Wage Schedule (Wage Change) for the Laramie, Wyoming wage area (AC-087).

30. Wage Schedule (Wage Change) for the Cumberland, Pennsylvania wage area (AC-092).

31. Wage Schedule (Wage Change) for the York, Pennsylvania wage area (AC-093).

32. Wage Schedule (Wage Change) for the Calhoun, Alabama wage area (AC-104).

33. Wage Schedule (Wage Change) for the Madison, Alabama wage area (AC-105).

34. Wage Schedule (Wage Change) for the Honolulu, Hawaii wage area (AC-106).

35. Wage Schedule (Wage Change) for the Norfolk-Portsmouth-Virginia Beach, Virginia wage area (AC-111).

36. Wage Schedule (Wage Change) for the Hampton-Newport News, Virginia wage area (AC-112).

37. Wage Schedule (Wage Change) for the Nueces, Texas wage area (AC-115).

38. Wage Schedule (Wage Change) for the Bexar, Texas wage area (AC-117).

39. Wage Schedule (Wage Change) for the Anchorage, Alaska wage area (AC-118).

40. Wage Schedule (Wage Change) for the New London, Connecticut wage area (AC-136).

41. Wage Schedule (Wage Change) for the Snohomish, Washington wage area (AC-141).

42. Wage Schedule (Wage Change) for the Pierce, Washington wage area (AC-143).

43. Wage Schedule (Wage Change) for the Kitsap, Washington wage area (AC-142).

44. Wage Schedule (Wage Change) for the Lake, Illinois wage area (AC-145).

45. Wage Schedule (Wage Change) for the Harford, Maryland wage area (AC-148).

46. Wage Schedule (Wage Change) for the Douglas-Sarpy, Nevada wage area (AC-149).

47. Wage Schedule (Wage Change) for the Leavenworth, Kansas-Jackson-Johnson, Missouri wage area (AC-151).

48. Wage Schedule (Wage Change) for the Dallas, Texas wage area (AC-152).

49. Wage Schedule (Wage Change) for the Tarrant, Texas wage area (AC-156).

50. Wage Schedule (Wage Change) for the St. Clair, Illinois wage area (AC-157).

51. Wage Schedule (Wage Change) for the Newport, Rhode Island Texas wage area (AC-167).

52. Survey Specifications for the Monterey, California wage area (AC-003).

53. Survey Specifications for the Orleans, Louisiana wage area (AC-006).

54. Survey Specifications for the Kern, California wage area (AC-010).

55. Survey Specifications for the Hennepin, Minnesota wage area (AC-015).

56. Survey Specifications for the Ward, North Dakota wage area (AC-016).

57. Survey Specifications for the Grand Forks, North Dakota wage area (AC-017).

58. Survey Specifications for the Davis-Weber-Salt Lake, Utah wage area (AC-018).

59. Survey Specifications for the Bell, Texas wage area (AC-028).

60. Survey Specifications for the Curry, New Mexico wage area (AC-030).

61. Survey Specifications for the Cobb, Georgia wage area (AC-034).

62. Survey Specifications for the Ada-Elmore, Idaho wage area (AC-038).

63. Survey Specifications for the Hampden, Massachusetts wage area (AC-039).

64. Survey Specifications for the Cascade, Montana wage area (AC-040).

65. Survey Specifications for the Spokane, Washington wage area (AC-043).

66. Survey Specifications for the San Diego, California wage area (AC-054).

67. Survey Specifications for the Solano, California wage area (AC-059).

68. Survey Specifications for the Columbus, Georgia wage area (AC-067).

69. Survey Specifications for the Burlington, New Jersey wage area (AC-071).

70. Survey Specifications for the Kent, Delaware wage area (AC-076).

71. Survey Specifications for the Richmond-Chesterfield, Virginia wage area (AC-082).

72. Survey Specifications for the Morris, New Jersey wage area (AC-090).

73. Survey Specifications for the York, Maine wage area (AC-139).

Reviewing survey results and/or survey specifications for the following Appropriated Fund areas:

74. Wage Schedule (Full Scale) for the Northeastern Arizona wage area (AC-008).

75. Wage Schedule (Full Scale) for the New Haven-Hartford, Connecticut wage area (AC-024).

76. Wage Schedule (Full Scale) for the Atlanta, Georgia wage area (AC-037).

77. Wage Schedule (Full Scale) for the Augusta, Georgia wage area (AC-038).

78. Wage Schedule (Full Scale) for the Macon, Georgia wage area (AC-041).

79. Wage Schedule (Full Scale) for the Savannah, Georgia wage area (AC-042).

80. Wage Schedule (Full Scale) for the Boise, Idaho wage area (AC-045).

81. Wage Schedule (Full Scale) for the Duluth, Minnesota wage area (AC-074).

82. Wage Schedule (Full Scale) for the Albuquerque, New Mexico wage area (AC-089).

83. Wage Schedule (Full Scale) for the Albany-Schenectady-Troy, New York wage area (AC-091).

84. Wage Schedule (Full Scale) for the Northern New York wage area (AC-095).

85. Wage Schedule (Full Scale) for the Cleveland, Ohio wage area (AC-105).

86. Wage Schedule (Full Scale) for the Western Texas wage area (AC-127).

87. Wage Schedule (Full Scale) for the San Antonio, Texas wage area (AC-135).

88. Wage Schedule (Full Scale) for the Texarkana, Texas wage area (AC-136).

89. Wage Schedule (Full Scale) for the Waco, Texas wage area (AC-137).

90. Wage Schedule (Full Scale) for the Southeastern Washington-Eastern Oregon wage area (AC-144).

91. Wage Schedule (Full Scale) for the West Virginia wage area (AC-146).

92. Wage Schedule (Full Scale) for the Milwaukee, Wisconsin wage area (AC-148).

93. Wage Schedule (Full Scale) for the Puerto Rico wage area (AC-151).

94. Wage Schedule (Wage Change) for the Anniston-Gadsden, Alabama wage area (AC-001).

95. Wage Schedule (Wage Change) for the Huntsville, Alabama wage area (AC-004).

96. Wage Schedule (Wage Change) for the Alaska wage area (AC-007).

97. Wage Schedule (Wage Change) for the Tampa-St. Petersburg, Florida wage area (AC-035).

98. Wage Schedule (Wage Change) for the Hawaii wage area (AC-044).

99. Wage Schedule (Wage Change) for the Lake Charles-Alexandria, Louisiana wage area (AC-060).

100. Wage Schedule (Wage Change) for the Shreveport, Louisiana wage area (AC-062).

101. Wage Schedule (Wage Change) for the Augusta, Maine wage area (AC-063).

102. Wage Schedule (Wage Change) for the Central and Northern Maine wage area (AC-064).

103. Wage Schedule (Wage Change) for the Central and Western Massachusetts wage area (AC-069).

104. Wage Schedule (Wage Change) for the Montana wage area (AC-083).

105. Wage Schedule (Wage Change) for the Syracuse-Utica-Rome, New York wage area (AC-097).

106. Wage Schedule (Wage Change) for the Asheville, North Carolina wage area (AC-098).

107. Wage Schedule (Wage Change) for the Central North Carolina wage area (AC-099).

108. Wage Schedule (Wage Change) for the North Dakota wage area (AC-103).

109. Wage Schedule (Wage Change) for the Southwestern Oregon wage area (AC-113).

110. Wage Schedule (Wage Change) for the Columbia, South Carolina wage area (AC-120).

111. Wage Schedule (Wage Change) for the Austin, Texas wage area (AC-129).

112. Wage Schedule (Wage Change) for the Corpus Christi, Texas wage area (AC-130).

113. Wage Schedule (Wage Change) for the El Paso, Texas wage area (AC-132).

114. Wage Schedule (Wage Change) for the Norfolk-Portsmouth-Newport News-Hampton, Virginia wage area (AC-140).

115. Wage Schedule (Wage Change) for the Southwestern Wisconsin wage area (AC-149).

116. Survey Specifications for the Columbus, Georgia wage area (AC-003).

117. Survey Specifications for the San Diego, California wage area (AC-017).

118. Survey Specifications for the San Francisco, California wage area (AC-018).

119. Survey Specifications for the Wilmington, Delaware wage area (AC-026).

120. Survey Specifications for the Washington, District of Columbia wage area (AC-027).

121. Survey Specifications for the Cocoa Beach-Melbourne, Florida wage area (AC-028).

122. Survey Specifications for the Pensacola, Florida wage area (AC-034).

123. Survey Specifications for the Albany, Georgia wage area (AC-036).

124. Survey Specifications for the Central Illinois wage area (AC-046).

125. Survey Specifications for the Davenport-Rock Island-Moline, Iowa wage area (AC-053).

126. Survey Specifications for the Des Moines, Iowa wage area (AC-054).

127. Survey Specifications for the Topeka, Kansas wage area (AC-056).

128. Survey Specifications for the Wichita, Kansas wage area (AC-057).

129. Survey Specifications for the Baltimore, Maryland wage area (AC-066).

130. Survey Specifications for the Northwestern Michigan wage area (AC-071).

131. Survey Specifications for the Southwestern Michigan wage area (AC-073).

132. Survey Specifications for the Biloxi, Mississippi wage area (AC-076).

133. Survey Specifications for the Buffalo, New York wage area (AC-092).

134. Survey Specifications for the Oklahoma City, Oklahoma wage area (AC-109).

135. Survey Specifications for the Tulsa, Oklahoma wage area (AC-111).

136. Survey Specifications for the Philadelphia, Pennsylvania wage area (AC-115).

137. Survey Specifications for the Pittsburgh, Pennsylvania wage area (AC-116).

138. Survey Specifications for the Scranton-Wilkes Barre, Pennsylvania wage area (AC-117).

139. Survey Specifications for the Eastern South Dakota wage area (AC-121).

140. Survey Specifications for the Utah wage area (AC-139).

141. Survey Specifications for the Roanoke, Virginia wage area (AC-142).

142. Survey Specifications for the Puerto Rico wage area (AC-151).

143. Special Pay—Pacific Northwest Power Rate Schedule

144. Special Pay—Washington, District of Columbia TV Systems/Electrical Equipment

145. Any items needing further clarification from this agenda may be discussed during future scheduled meetings.

Meeting Accessibility: Pursuant to 5 U.S.C. 552b(c)(4), the DoD has determined that the meeting shall be closed to the public. The Under Secretary of Defense for Personnel and Readiness, in consultation with the Department of Defense Office of General Counsel, has determined in writing that this meeting may disclose trade secrets and commercial or financial information obtained from a person and privileged or confidential.

Written Statements: Pursuant to section 10(a)(3) of the Federal Advisory Committee Act and 41 CFR 102-3.140, interested persons may submit written statements to the Designated Federal Officer for the DoDWC at any time. Written statements should be submitted to the Designated Federal Officer at the email or mailing address listed above in the FOR FURTHER INFORMATION CONTACT section. If statements pertain to a specific topic being discussed at a planned meeting, then these statements must be submitted no later than five (5) business days prior to the meeting in question. Written statements received after this date may not be provided to or considered by the DoDWC until its next meeting. The Designated Federal Officer will review all timely submitted written statements and provide copies to all the committee members before the meeting that is the subject of this notice.

Dated: August 30, 2021.
Aaron T. Siegel,
Alternate OSD Federal Register Liaison Officer, Department of Defense.

[FR Doc. 2021-19168 Filed 9-3-21; 8:45 am]

BILLING CODE 5001-06-P